DEPARTMENT OF ENERGY

Federal Energy Regulatory Commission

Combined Notice of Filings #1

Take notice that the Commission received the following exempt wholesale generator filings:

Docket Numbers: EG21-181-000.

Applicants: Ensign Wind Energy, LLC.

Description: Notice of Self-Certification of Exempt Wholesale Generator Status of Ensign Wind Energy, LLC.

Filed Date: 6/25/21.

Accession Number: 20210625-5058.

Comments Due: 5 p.m. ET 7/16/21.

Take notice that the Commission received the following electric rate filings:

Docket Numbers: ER17-1609-003; ER19-1215-002.

Applicants: Carroll County Energy LLC, Cricket Valley Energy Center, LLC.

Description: Response to May 27, 2021 Deficiency Letter of Carroll County Energy LLC, et al.

Filed Date: 6/22/21.

Accession Number: 20210622-5177.

Comments Due: 5 p.m. ET 7/13/21.

Docket Numbers: ER20-277-002.

Applicants: Southwestern Public Service Company.

Description: Compliance filing: ER20-277-001 Settlement Compliance Filing to be effective 1/1/2020.

Filed Date: 6/25/21.

Accession Number: 20210625-5022.

Comments Due: 5 p.m. ET 7/16/21.

Docket Numbers: ER21-2207-000.

Applicants: Public Service Company of Oklahoma.

Description: § 205(d) Rate Filing: Coffeyville to be effective 6/1/2021.

Filed Date: 6/25/21.

Accession Number: 20210625-5009.

Comments Due: 5 p.m. ET 7/16/21.

Docket Numbers: ER21-2208-000.

Applicants: AEP Indiana Michigan Transmission Company, Inc., PJM Interconnection, L.L.C.

Description: § 205(d) Rate Filing: AEP submits Revisions to PJM Tariff, Att. H-20B Parts I and II to be effective 7/1/2021.

Filed Date: 6/25/21.

Accession Number: 20210625-5012.

Comments Due: 5 p.m. ET 7/16/21.

Docket Numbers: ER21-2210-000.

Applicants: Southwest Power Pool, Inc.

Description: § 205(d) Rate Filing: 1976R10 FreeState Electric Cooperative, Inc. NITSA and NOA to be effective 9/1/2021.

Filed Date: 6/25/21.

Accession Number: 20210625-5020.

Comments Due: 5 p.m. ET 7/16/21.

Docket Numbers: ER21-2211-000.

Applicants: Midcontinent Independent System Operator, Inc., American Transmission Company LLC.

Description: § 205(d) Rate Filing: 2021-06-25_SA 3670 ATC-Springfield Solar Farm E&P (J1171) to be effective 6/23/2021.

Filed Date: 6/25/21.

Accession Number: 20210625-5044.

Comments Due: 5 p.m. ET 7/16/21.

Docket Numbers: ER21-2212-000.

Applicants: Southwest Power Pool, Inc.

Description: § 205(d) Rate Filing: 1977R16 Nemaha-Marshall Electric Cooperative NITSA and NOA to be effective 9/1/2021.

Filed Date: 6/25/21.

Accession Number: 20210625-5054.

Comments Due: 5 p.m. ET 7/16/21.

Docket Numbers: ER21-2213-000.

Applicants: Southwest Power Pool, Inc.

Description: § 205(d) Rate Filing: 3620R3 Kansas City Board of Public Utilities NITSA NOA to be effective 9/1/2021.

Filed Date: 6/25/21.

Accession Number: 20210625-5101.

Comments Due: 5 p.m. ET 7/16/21.

Docket Numbers: ER21-2214-000.

Applicants: Midcontinent Independent System Operator, Inc.

Description: § 205(d) Rate Filing: 2021-06-25_Att X Financial Improvements and PGIA Filing to be effective 8/25/2021.

Filed Date: 6/25/21.

Accession Number: 20210625-5115.

Comments Due: 5 p.m. ET 7/16/21.

Docket Numbers: ER21-2215-000.

Applicants: Peoples Natural Gas.

Description: Baseline eTariff Filing: Peoples Natural Gas LLC MBR Tariff Filing to be effective 6/28/2021.

Filed Date: 6/25/21.

Accession Number: 20210625-5138.

Comments Due: 5 p.m. ET 7/16/21.

Docket Numbers: ER21-2216-000.

Applicants: Southwest Power Pool, Inc.

Description: § 205(d) Rate Filing: 2881R13 City of Chanute, KS NITSA NOA to be effective 9/1/2021.

Filed Date: 6/25/21.

Accession Number: 20210625-5142.

Comments Due: 5 p.m. ET 7/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2021.
Debbie-Anne A. Reese,
Deputy Secretary.

[FR Doc. 2021-14131 Filed 6-30-21; 8:45 am]

BILLING CODE 6717-01-P